ENVIRONMENTAL PROTECTION AGENCY

[EPA-HQ-OPP-2010-0014; FRL-9365-9]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a February 29, 2012 Federal Register Notice of Receipt of Requests from the registrants listed in Table 2 of Unit II. to voluntarily cancel these product registrations. In the February 29, 2012 notice, EPA indicated that it would issue an order implementing the cancellations, unless the Agency received substantive comments within the 180 day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective October 17, 2012.

FOR FURTHER INFORMATION CONTACT: John W. Pates, Jr., Pesticide Re-evaluation Division (7508P), Office of Pesticide Programs, Environmental Protection Agency, 1200 Pennsylvania Ave., NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014 is available at http://www.regulations.gov or at the Office of Pesticide Programs Regulatory Public Docket (OPP Docket) in the Environmental Protection Agency Docket Center (EPA/DC), EPA West Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of 25 products registered under FIFRA section 3. These registrations are listed in sequence by registration number in Table 1 of this unit.

Table 1—Product Cancellations
EPA registration No. | Product name | Chemical name
000577-00539 | Semi-transparent Wood Preservative Stain A14T5 | Folpet, Tributyltin oxide.
000577-00544 | Cuprinol Stain and Wood Preservative | Tributyltin oxide, Chlorothalonil.
000707-00120 | Kathon 4200 Fabric Mildewcide | Octhilinone.
001448-00315 | B-7-16 | Poly(oxy-1,2-ethanediyl(dimethylimino)-1,2-ethanediyl(dimethylimino)-1,2-ethanediyl dichloride).
001529-00029 | Nuosept 635-W Preservative | Alkyl amine hydrochloride.
001529-00030 | Fungitrol 158 Fungicide | Alkyl* amine hydrochloride *(as in fatty acids of coconut oil), Tributyltin benzoate.
002829-00127 | Vinyzene IT-3000 DIDP | Octhilinone.
002829-00139 | Vinyzene DP 7000 | Triclosan.
002829-00145 | Vinyzene SB-30 | Triclosan.
004822-00429 | Waste Minders with Stangard/4 | Triclosan.
007313-00006 | Olympic Clear Wood Preservative | Tributyltin oxide, Folpet.
007364-00022 | Algimycin Winter Algicide | Poly(oxy-1,2-ethanediyl(dimethylimino)-1,2-ethanediyl(dimethylimino)-1,2-ethanediyl dichloride).
007364-00093 | Poolcare Algastop | Poly(oxy-1,2-ethanediyl(dimethylimino)-1,2-ethanediyl(dimethylimino)-1,2-ethanediyl dichloride).
047371-00084 | Formulation HL-138D | Alkyl* dimethyl benzyl ammonium chloride *(60%C14, 30%C16, 5%C18, 5%C12), Tributyltin oxide.
053883-00259 | Termini 9.1 SC | Fipronil.
CO080003 | Endura Fungicide | Boscalid.
MD080002 | Ridomil Gold Copper | Copper hydroxide D-Alanine, N-(2,6-dimethylphenyl)-N-(methoxyacetyl)-, methyl ester.
OR000023 | Daconil SDG | Chlorothalonil.
WA000003 | Daconil SDG | Chlorothalonil.
WA030013 | Thiodan 3 EC Insecticide | Endosulfan.
WA030017 | Thionex 50W Insecticide | Endosulfan.
WA030018 | Thiodan 3 EC Insecticide | Endosulfan.
WA060006 | Outlook Herbicide | dimethenamide-P.
WA060018 | Prowl H2O Herbicide | Pendemethalin.
WA860012 | Furadan 15 G Insecticide-Nemanticide | Carbofuran.

Table 2 of this unit includes the names and addresses of record for all registrants of the products in Table 1 of this unit, in sequence by EPA company number. This number corresponds to the first part of the EPA registration numbers of the products listed in Table 1 of this unit.

Table 2—Registrants of Cancelled Products
EPA company No. | Company name and address
577 | The Sherwin-Williams Co., 101 Prospect Avenue, Cleveland, OH 44115.
707 | Rohm & Haas Co., 100 Independence Mall, West Philadelphia, PA 19106.
1448 | Buckman Laboratories Inc., 1256 North Mclean Boulevard, Memphis, TN 38108.
1529 | International Specialty Products, 1361 Alps Road, Wayne, NJ 07470.
2829 | Rohm and Haas Company, 100 S Independence Mall West, STE 1A, Philadelphia, PA 19106.
4822 | S.C. Johnson & Son Inc., 1525 Howe Street, Racine, WI 53403.
7313 | PPG Architectural Finishes Inc., 1 PPG Place, Pittsburgh, PA 15272.
7364 | GLB Pool & Spa, W175 N11163 Stonewood Drive, Suite 234, Germantown, WI 53022.
47371 | H & S Chemical Division, 90 Boroline Road, Allendale, NJ 07401.
53883 | Control Solutions Inc., 5903 Genoa-Red Bluff Road, Pasadena, TX 77507.
MD080002 | Syngenta Crop Protection, LLC, D/B/A Syngenta Crop Protection, Inc., P.O. Box 18300, Greensboro, NC 27419-8300.
OR000023; WA000003 | GB Biosciences Corporation, 410 Swing Road, P.O. Box 18300, Greensboro, NC 27419-5458.
WA030013; WA030017; WA030018 | Makhteshim-Agan of North America, Inc., 3120 Highwoods Blvd., Suite 100, Raleigh, NC 27604.
WA060006; WA060018; CO080003 | BASF Corporation, Agricultural Products, 26 Davis Drive, P.O. Box 13528, Research Triangle Park, NC 27709-3528.
WA860012 | FMC Corp., Agricultural Products Group, 1735 Market, Room 1978, Philadelphia, PA 19103.

III. Summary of Public Comments Received and Agency Response to Comments

During the public comment period provided, EPA received no comments in response to the February 29, 2012 Federal Register notice announcing the Agency's receipt of the requests for voluntary cancellations of products listed in Table 1 of Unit II. In addition, five pesticide products listed in the February 29, 2012 Federal Register notice announcing the requests for voluntary cancellations were previously cancelled under separate cancellation orders. EPA Reg. Nos. 000322-00008, 001677-00199, 008177-00071, 010807-00447, and 035975-00004 were previously canceled under separate Federal Register Notices. The following table lists each product by FRL No. and date of cancellation.

Table 3—Products Cancelled in Previous Publications
EPA registration No. | Docket No. | Federal Register date and No.
000322-00008 008177-00071 035975-00004 | EPA-HQ-OPP-2012-0489 | 7/27/12 (77 FR 44229) (FRL-9355-7)
001677-00199 | EPA-HQ-OPP-2012-0014 | 8/31/11 (76 FR 54230) (FRL-8885-6)
010807-00447 * | EPA-HQ-OPP-2009-1017 | 2/15/12 (77 FR 12299) (FRL-9336-2)
* Note: EPA Reg. No. 010807-00447 was corrected on 8/31/12 (77 FR 53198) (FRL-9357-6) to include this number in the Federal Register instead of 010807-00448 that was made in error.

IV. Cancellation Order

Pursuant to FIFRA section 6(f), EPA hereby approves the requested cancellations of the registrations identified in Table 1 of Unit II. Accordingly, the Agency hereby orders that the product registrations identified in Table 1 of Unit II are canceled. The effective date of the cancellations that are the subject of this notice is October 17, 2012. Any distribution, sale, or use of existing stocks of the products identified in Table 1 of Unit II. in a manner inconsistent with any of the provisions for disposition of existing stocks set forth in Unit VI. below, will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of February 29, 2012 (77 FR 12299) (FRL-9336-2). The comment period closed on August 27, 2012.

VI. Provisions for Disposition of Existing Stocks

Existing stocks are those stocks of registered pesticide products which are currently in the United States and which were packaged, labeled, and released for shipment prior to the effective date of the cancellation action. The existing stocks provisions for the products subject to this order are as follows.

A. Registrations Listed in Table 1 of Unit II Except for Registration No. WA860012

The registrants may continue to sell and distribute existing stocks of products listed in Table 1 of Unit II., except for Furadan 15 G Insecticide Nemanticide, with Registration No. WA860012, until October 17, 2013, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II., except for Furadan 15 G Insecticide Nemanticide, with Registration No. WA860012, until existing stocks are exhausted, provided that such sale, distribution, or use is consistent with the terms of the previously approved labeling on, or that accompanied, the canceled products.

B. Registration No. WA860012

The effective date of cancellation of Furadan 15 G Insecticide-Nemanticide, Registration No. WA860012 is October 17, 2012. Continued sale and distribution of existing stocks of this product is no longer allowed. Registrants are prohibited from selling and/or distributing this product except for export consistent with FIFRA section 7 or for proper disposal.

List of Subjects

Environmental protection, Pesticides and pests.

Dated: October 5, 2012.
Richard P. Keigwin, Jr.,
Director, Pesticide Re-evaluation Division, Office of Pesticide Programs.

[FR Doc. 2012-25426 Filed 10-16-12; 8:45 am]

BILLING CODE 6560-50-P